DEPARTMENT OF THE INTERIOR

Bureau of Land Management

[LLWO600000 L18200000.XP0000-18X; OMB Control Number 1004-0204]

Agency Information Collection Activities; Bureau of Land Management Resource Advisory Council Application

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before June 11, 2018.

ADDRESSES: Send your comments on this information collection request (ICR) by mail to the U.S. Department of the Interior, Bureau of Land Management, 1849 C Street NW, Room 2134LM, Washington, DC 20240, Attention: Jean Sonneman; by email to jesonnem@blm.gov. Please reference OMB Control Number 1004-0204 in the subject line of your comments.

FOR FURTHER INFORMATION CONTACT: To request additional information about this ICR, contact Twinkle Thompson-Seitts by email at pseitts@blm.gov, or by telephone at 202-208-7301.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This control number consists of one information collection activity. In an application form, the BLM seeks to collect information to determine education, training, and experience related to possible service on advisory committees established under the authority of Section 309 of the Federal Land Policy and Management Act (43 U.S.C. 1739), the Federal Advisory Committee Act, 5 U.S.C. App. 2, and 43 CFR Subpart 1784. The BLM refers to such advisory committees as “Resource Advisory Councils” (RACs). The information that the BLM collects is necessary to ensure that each RAC is structured to provide fair membership balance, as prescribed by each RAC's charter.

Title of Collection: Bureau of Land Management Resource Advisory Council Application.

OMB Control Number: 1004-0204.

Form Number: Form 1120-19.

Type of Review: Extension of a currently approved collection.

Respondents/Affected Public: Persons who apply for positions on Resource Advisory Councils.

Total Estimated Number of Annual Respondents: 200.

Total Estimated Number of Annual Responses: 200.

Estimated Completion Time per Response: 4 hours.

Total Estimated Number of Annual Burden Hours: 800.

Respondent's Obligation: Required to obtain or retain a benefit.

Frequency of Collection: On occasion.

Estimated Annual Nonhour Burden Cost: None.

An agency may not conduct or sponsor and a person is not required to respond to a collection of information unless it displays a currently valid OMB control number.

The authority for this action is the Paperwork Reduction Act of 1995 (44 U.S.C. 3501 et seq).

Jean Sonneman,
Information Collection Clearance Officer, Bureau of Land Management.

[FR Doc. 2018-07464 Filed 4-10-18; 8:45 am]

BILLING CODE 4310-84-P